ENVIRONMENTAL PROTECTION AGENCY

[ER-EFL-8994-2]

Environmental Impacts Statements; Notice of Availability

Responsible Agency: Office of Federal Activities, General Information (202) 564-1399 or http://www.epa.gov/compliance/nepa/.

Weekly receipt of Environmental Impact Statements.

Filed 12/06/2010 through 12/10/2010.

Pursuant to 40 CFR 1506.9.

Notice: In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20100462, Draft EIS, FWS, CA, Santa Clara Valley Habitat Plan, To Protect and Enhance Ecological Diversity and Function in the Greater Portion of Santa Clara County, Implementation, Santa Clara County, CA, Comment Period Ends: 01/31/2011, Contact: John Robles 916-414-6731.

EIS No. 20100463, Draft EIS, HUD, WA, Sunset Area Community Planned Action, Proposal to Redevelopment of the Sunset Terrace Public Housing Community and Associated Neighborhood Growth and Revitalization, City of Renton, WA, Comment Period Ends: 01/31/2011, Contact: Erika Conkling 415-430-6578.

EIS No. 20100464, Final EIS, NPS, FL, Everglades National Park Tamiami Trail Modifications: Next Steps Project, To Restore More Natural Water Flow to Everglades National Parks and Florida Bay, FL, Wait Period Ends: 01/18/2011, Contact: Dan Kimball 305-242-7712.

EIS No. 20100465, Final EIS, NRC, NY, Generic—License Renewal of Nuclear Plants, Supplement 38 to NUREG-1437, Regarding Indian Point Nuclear Generating Unit Nos. 2 and 3, Westchester County, NY, Wait Period Ends: 01/18/2011, Contact: Andrew Stuyvenberg 301-415-4006.

EIS No. 20100466, Draft EIS, BLM/DOE, 00, Programmatic—Solar Energy Development in Six Southwestern States, To Establish a New BLM Solar Energy Program applicable to Utility-Scale Solar Energy Development and DOE's Proposed Action to Develop new Program Guidance Relevant to DOE Supported Solar Project, AZ, CA, CO, NV, NM and UT, Comment Period Ends: 03/17/2011, Contact: Linda Resseguie 202-912-7337. BLM and DOE are Joint Lead Agencies for the above project contact for BLM is Linda Resseguie, 202-912-7337 and contact for DOE is Jane Summerson, 202-287-6188.

EIS No. 20100467, Final EIS, BLM, NV,Emigrant Mine Project, Proposed Open Pit Gold Mine, Plan-of-Operation, South of Carlin in Elko County, NV, Wait Period Ends: 01/18/2011, Contact: Tom Schmidt 775-753-0200.

EIS No. 20100468, Draft EIS, USACE, MS,Mississippi River Gulf Outlet (MRGO) Ecosystem Restoration Study, To Develop a Comprehensive Ecosystem Restoration Plan to Restore the Lake Borgne, Implementation, MS, Comment Period Ends: 01/31/2011, Contact: Tammy Gilmore 504-862 -1002.

EIS No. 20100469, Final EIS, BR, CA,South Coast Conduit/Upper Reach Reliability Project, Construction of a Second Water Pipeline for Improving Water Supply, US Army COE Section 10 and 404 Permits, Santa Barbara County, CA, Wait Period Ends: 01/18/2011, Contact: Rain Healer 559-487-5196.

EIS No. 20100470, Draft EIS, GSA, DC, Department of Homeland Security Headquarters Consolidation at St. Elizabeths Master Plan Amendment—East Campus North Parcel, St. Elizabeths Campus in Southeast Washington, DC., Comment Period Ends: 02/02/2011, Contact: Denise Decker 202-538-5643.

EIS No. 20100471, Final EIS, BLM, 00 Southern California Edison's Eldorado-Ivanpah Transmission Line Project, Construction and Operation, Right-of-Way Application, Clark County, NV and San Bernardino County, CA, Wait Period Ends: 01/18/2011, Contact: Tom Hurshman 970-240-5345.

Amended Notices

EIS No. 20100322, Draft EIS, USAF, 00, Powder River Training Complex Project, Proposal to Improve Airspace for Training, Primarily, B-1 Aircrews at Ellsworth AFB, South Dakota, and B-52 Aircrews at Minot AFB, North Dakota, Comment Period Ends: 01/20/2011, Contact: Linda Devine 757-964-9434.

Revision to FR Notice Published 08/20/2010: Extending Comment Period from 11/15/2010 to 01/20/2011.

EIS No. 20100339, Final EIS, BLM, CA,Adoption—Genesis Solar Energy Project, Application for a Right-of-Way Grant to Construct, Operate and Decommission a Solar Thermal Facility on Public Lands, California Desert Conservation Area Plan, Riverside County, CA, Wait Period Ends: Contact: Matthew McMillen 202-586-7248.

Revision to FR Notice Published 08/27/2010: The US Department of Energy's has adopted the Department of Interior's Bureau of Land Management FEIS #20100339, filed 08/20/2010. DOE was a cooperating agency for the above project. Recirculation of the FEIS is not necessary under 40 CFR 1506.3(c).

EIS No. 20100438, Draft EIS, USA, CO,Programmatic—Growth, Realignment, and Stationing of Army Aviation Assets, Evaluates Environmental Impacts of Stationing Army Combat Aviation Brigade at Fort Carson, CO and Joint Base Lewis-McChord, WA, Comment Period Ends: 01/07/2011, Contact: Mike Ackerman 210-295-2273.

Revision to FR Notice Published 11/05/2010; Extending Comment Period from 12/20/2010 to 01/07/2011.

Dated: December 14, 2010.
Robert W. Hargrove,
Director, NEPA Compliance Division, Office of Federal Activities.

[FR Doc. 2010-31793 Filed 12-16-10; 8:45 am]

BILLING CODE 6560-50-P